DEPARTMENT OF COMMERCE

Patent and Trademark Office

Green Technology Pilot Program

ACTION: Proposed collection; comment request.

SUMMARY: The United States Patent and Trademark Office (USPTO), as part of its continuing effort to reduce paperwork and respondent burden, invites the general public and other Federal agencies to take this opportunity to comment on the revision of a currently approved collection, as required by the Paperwork Reduction Act of 1995, Public Law 104-13 (44 U.S.C. 3506(c)(2)(A)).

DATES: Written comments must be submitted on or before December 20, 2010.

ADDRESSES: You may submit comments by any of the following methods:

• E-mail: InformationCollection@uspto.gov. Include “0651-0062 Green Technology Pilot Program comment” in the subject line of the message.

• Fax: 571-273-0112, marked to the attention of Susan K. Fawcett.

• Mail: Susan K. Fawcett, Records Officer, Office of the Chief Information Officer, United States Patent and Trademark Office, P.O. Box 1450, Alexandria, VA 22313-1450.

• Federal Rulemaking Portal: http://www.regulations.gov.

FOR FURTHER INFORMATION CONTACT: Requests for additional information should be directed to Raul Tamayo, Legal Advisor, Office of Patent Legal Administration, United States Patent and Trademark Office, P.O. Box 1450, Alexandria, VA 22313-1450; by telephone at 571-272-7728; or by e-mail to Raul.Tamayo@uspto.gov.

SUPPLEMENTARY INFORMATION:

I. Abstract

The United States Patent and Trademark Office (USPTO) implemented a pilot program on December 8, 2009, that permits patent applications pertaining to green technologies, including greenhouse gas reduction, to be advanced out of turn for examination and reviewed earlier (accorded special status). The program is designed to promote the development of green technologies. Participation was previously limited to applications filed before December 8, 2009. The USPTO is expanding the eligibility for the pilot program to include applications filed on or after December 8, 2009. The program is also being extended until December 31, 2011. These changes will permit more applications to qualify for the program, thereby allowing more inventions related to green technologies to be advanced out of turn for examination and reviewed earlier. Applicants may participate in the green technology pilot program without meeting the current requirements of the accelerated examination program. The accelerated examination program is covered under OMB Control Number 0651-0031.

This pilot will support national and international green technology initiatives.

II. Method of Collection

Electronically using the USPTO online filing system EFS-Web.

III. Data

OMB Number: 0651-0062.

Form Number(s): PTO/SB/420.

Type of Review: Revision of a currently approved collection.

Affected Public: Individuals or households; businesses or other for-profits; and not-for-profit institutions.

Estimated Number of Respondents: 2,225 responses per year.

Estimated Time Per Response: The USPTO estimates that it will take the public between 1 hour and 10 hours to gather the necessary information, prepare the appropriate form or other documents, and submit the information to the USPTO.

Estimated Total Annual Respondent Burden Hours: 3,850 hours per year.

Estimated Total Annual Respondent Cost Burden: $1,251,250 per year. The USPTO expects that the information in this collection will be prepared by attorneys. Using the professional rate of $325 per hour for attorneys in private firms, the USPTO estimates that the respondent cost burden for this collection will be approximately $1,251,250 per year.

Item | Estimated time for response | Estimated annual responses | Estimated annual burden hours
Request for Green Technology Pilot Program (PTO/SB/420) | 1 hour | 2,000 | 2,000
Protests by the public against pending applications under 37 CFR 1.291 | 10 hours | 65 | 650
Third-party submissions in published applications under 37 CFR 1.99 | 7.5 hours | 160 | 1,200
Total |  | 2,225 | 3,850

Estimated Total Annual Non-hour Respondent Cost Burden: $36,410 per year. There are no capital start-up or maintenance costs associated with this information collection. However, this collection does have record keeping costs and filing fees for the second or subsequent protest filed by the same real party in interest and for a third-party submission under 37 CFR 1.99.

When submitting the information in this collection to the USPTO electronically through EFS-Web, the applicant is strongly urged to retain a copy of the file submitted to the USPTO as evidence of authenticity in addition to keeping the acknowledgment receipt as clear evidence of the date the file was received by the USPTO. The USPTO estimates that it will take 2 minutes (0.03 hours) to print and retain a copy of the EFS-Web submissions and that approximately 2,225 submissions per year will be submitted electronically, for a total of approximately 67 hours per year for printing this receipt. Using the paraprofessional rate of $100 per hour, the USPTO estimates that the record keeping cost associated with this collection will be approximately $6,700 per year.

There is no fee for filing protests under 37 CFR 1.291 unless the filed protest is the second or subsequent protest by the same real party in interest, in which case the 37 CFR 1.17(i) fee of $130 must be included (the USPTO estimates 7 of the 65 protests filed per year will trigger this fee). Third-party submissions under 37 CFR 1.99 must include the 37 CFR 1.17(p) fee of $180. The USPTO estimates that the total fees associated with this collection will be approximately $29,710 per year.

The total non-hour respondent cost burden for this collection in the form of record keeping costs ($6,700) and filing fees ($29,710) is approximately $36,410 per year.

IV. Request for Comments

Comments are invited on: (a) Whether the proposed collection of information is necessary for the proper performance of the functions of the agency, including whether the information shall have practical utility; (b) the accuracy of the agency's estimate of the burden (including hours and cost) of the proposed collection of information; (c) ways to enhance the quality, utility and clarity of the information to be collected; and (d) ways to minimize the burden of the collection of information on respondents; e.g., the use of automated collection techniques or other forms of information technology.

Comments submitted in response to this notice will be summarized or included in the request for OMB approval of this information collection; they also will become a matter of public record.

Dated: October 14, 2010.
Susan K. Fawcett,
Records Officer, USPTO, Office of the Chief Information Officer.

[FR Doc. 2010-26376 Filed 10-19-10; 8:45 am]

BILLING CODE 3510-16-P